DEPARTMENT OF DEFENSE

Department of the Army

Interim Final Rule Change 1 to the Military Freight Traffic Unified Rules Publication (MFTURP-1), Dated 24 June 2019

AGENCY: Department of the Army, DoD.

ACTION: Notice of availability; request for comments.

SUMMARY: The Military Surface Deployment and Distribution Command (SDDC) is announcing the availability of Interim Final Rule Change 1 to the MFTURP-1 and requesting comments on the change.

DATES: Interim Final Rule Change 1 is dated 24 June 2019. Comments are due by September 16, 2019.

ADDRESSES: Access Interim Final Rule Change 1 and the MFTURP-1 via the SDDC website: https://www.sddc.army.mil/res/pages/pubs.aspx.

Submit comments via the SDDC Docketing System, https://www.sddc.army.mil/res/Pages/docketing.aspx or mail to SDDC, G3, Domestic Carrier Management Branch, 1 Soldier Way, Building 1900W, ATTN: SDDC-AMSSD-OPM-MC, Scott AFB 62225.

Request additional information by email: usarmy.scott.sddc.mbx.g3-domestic-mfturp@mail.mil or phone: 618-220-5554.

SUPPLEMENTARY INFORMATION: Reference: The Military Surface Deployment and Distribution Command (SDDC) issued an Interim Final Rule Change 1 to the Military Freight Traffic Unified Rules Publications (MFTURP-1), Section G, Specific Simple Federal Acquisition Transportation/Service Contract Provider Rules, Page 248, Paragraph 9.b on June 24, 2019. SDDC also updated the Rate Qualifier Table.

Miscellaneous: This publication, including Interim Final Rule Change 1, as well as the other SDDC publications, can be accessed via the SDDC website: https://www.sddc.army.mil/res/pages/pubs.aspx.

Jeff Olenick,
Chief, Movement Support.

[FR Doc. 2019-17632 Filed 8-15-19; 8:45 am]

BILLING CODE 5001-03-P